DEPARTMENT OF HEALTH AND HUMAN SERVICES

Administration for Children and Families

Proposed Information Collection Activity: Social Services Block Grant Post-Expenditure Report, Pre-Expenditure Report, and Intended Use Plan (Office of Management and Budget# 0970-0234)

AGENCY: Office of Community Services, Administration for Children and Families, U.S. Department of Health and Human Services.

ACTION: Request for public comments.

SUMMARY: The Administration for Children and Families' (ACF) Office of Community Services (OCS) is requesting from the Office of Management and Budget (OMB) a three-year extension of the Social Services Block Grant (SSBG) Post-Expenditure Report, Pre-Expenditure Report, and Intended Use Plan (OMB# 0970-0234). OCS is proposing to make minor editorial modifications to some column titles in the Pre- and Post-Expenditure Reports, for clarification.

DATES: Comments are due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: On an annual basis, States and Territories are required to submit the following reports: (1) An Intended Use Plan that provides data and narrative descriptions related to the State's SSBG program. The Intended Use Plan includes details about the delivery of SSBG services and the State agency administering the SSBG Program. ACF is proposing to expand the currently approved information collection to include the collection of States' Intended Use Plans with a model format. Recipients are required to submit their Pre-Expenditure Report no less than 30 days prior to the start of the period covered by the report. (2) A Pre-Expenditure Report demonstrates the State's anticipated allocation of SSBG funding among the 29 pre-defined SSBG service categories. Historically, States have submitted this report using the Post-Expenditure Report Form, and the associated burden is included in the currently approved information collection. Recipients are required to submit their Intended Use Plan no less than 30 days prior to the start of the period covered by the report, together with the Pre-Expenditure Report. (3) A Post-Expenditure Report details the State's actual use of SSBG funding among each of the 29 service categories. Recipients are required to submit their Post-Expenditure Report within 6 months of the end of the period covered by the report.

The law governing the programs at title XX of the Social Security Act [42 U.S.C. 1397c] mandates States and Territories submit to the Federal administering office an Intended Use Plan and Pre-Expenditure report. These materials are to detail the planned use of funds. At the end of the fiscal year, the law also requires States to provide the Federal agency with a reconciliation of the actual use of grant funds in the Post-Expenditure Report [42 U.S.C. 1397e].

The forms and model plans support the States and Territories in meeting the statutory requirement and provide a consistent set of tools for information collection on the grants' use for each State, as well as grant wide. The State and Territory reports are congregated and analyzed and, in turn, comprise the SSBG Annual Report. The data informs the program's performance and efficiency measures for program impact and efficacy.

OCS is proposing to make minor editorial modifications to some column titles in the Pre- and Post-Expenditure Reports, for clarification.

Respondents: Agencies that administer SSBG at the State or Territory level, including the 50 States; the District of Columbia; the Commonwealth of Puerto Rico; and the Territories of American Samoa, Guam, the U.S. Virgin Islands, and the Commonwealth of Northern Mariana Islands.

Annual Burden Estimates
Instrument | Total number of respondents | Annual number of responses per respondent | Average burden hours per response | Annual burden hours
Pre-Expenditure Report Form | 57 | 1 | 2 | 114
Intended Use Plan | 57 | 1 | 40 | 2,280
Post-Expenditure Reporting Form | 57 | 1 | 110 | 6,270
Estimated Total Annual Burden Hours |  |  |  | 8,664

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1397-1397e.

Mary B. Jones,
ACF/OPRE Certifying Officer.

[FR Doc. 2023-25712 Filed 11-20-23; 8:45 am]

BILLING CODE 4184-24-P